FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 2, 2015.

A. Federal Reserve Bank of Chicago (Colette A. Fried, Assistant Vice President) 230 South LaSalle Street, Chicago, Illinois 60690-1414:

1. Gregory Jackson, Detroit, Michigan, individually, and together as a group acting in concert with Roy S. Roberts, Bloomfield Hills, Michigan; to acquire voting shares of First Independence Corporation, and thereby indirectly acquire voting shares of First Independence Bank, both in Detroit, Michigan.

B. Federal Reserve Bank of Dallas (E. Ann Worthy, Vice President) 2200 North Pearl Street, Dallas, Texas 75201-2272:

1. Michael K. Pearson and Keith W. Pearson, both of Hobbs, New Mexico; collectively as a group acting in concert, to acquire voting shares of Lea County Bancshares, Inc., and thereby indirectly acquire voting shares of Lea County State Bank, both in Hobbs, New Mexico.

Board of Governors of the Federal Reserve System, December 15, 2014.
Michael J. Lewandowski,
Associate Secretary of the Board.

[FR Doc. 2014-29644 Filed 12-17-14; 8:45 am]

BILLING CODE 6210-01-P